DEPARTMENT OF DEFENSE

Office of the Secretary

[Docket ID: DoD-2021-OS-0094]

Submission for OMB Review; Comment Request

AGENCY: The Office of the Under Secretary of Defense for Personnel and Readiness, Department of Defense (DoD).

ACTION: 30-day information collection notice.

SUMMARY: The DoD has submitted to OMB for clearance the following proposal for collection of information under the provisions of the Paperwork Reduction Act.

DATES: Consideration will be given to all comments received by December 15, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, or whs.mc-alex.esd.mbx.dd-dod-information-collections@mail.mil.

SUPPLEMENTARY INFORMATION: Title; Associated form; and OMB Number: DoD Educational Loan Repayment Program (LRP) Application; DD Form 2475; OMB Control Number 0704-0152.

Type of Request: Extension.

Number of Respondents: 44,000.

Responses per Respondent: 1.

Annual Responses: 44,000.

Average Burden per Response: 10 minutes.

Annual Burden Hours: 7,333 hours.

Needs and Uses: The information collection requirement is necessary for Military Services to pay a portion of Service member student loan(s). The information provided is reviewed by Military Service personnel record custodians to verify that the Service member meets eligibility requirements. This form will then be forwarded to the lender the Service member identifies for verification of the loan amount and status. The form is returned to the Service finance office to make the annual payment to the Service member's lender. Collected information is covered by the applicable military Service System of Records Notice for the Official Military Personnel File of Military Records Jacket.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: November 8, 2021.
Aaron T. Siegel,
Alternate OSD Federal Register Liaison Officer, Department of Defense.

[FR Doc. 2021-24801 Filed 11-12-21; 8:45 am]

BILLING CODE 5001-06-P